DEPARTMENT OF COMMERCE

National Oceanic and Atmospheric Administration

RIN 0648-XG829

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Advisory Panel to consider actions affecting New England fisheries in the exclusive economic zone (EEZ). Recommendations from this group will be brought to the full Council for formal consideration and action, if appropriate.

DATES: This meeting will be held on Wednesday, March 27, 2019 at 12 p.m.

ADDRESSES: The meeting will be held at the Holiday Inn, Mansfield, MA 02048; telephone: (508) 339-2200.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The primary purpose of this meeting is to make progress on the development of herring fishery specifications for fishing years 2020 and 2021. The panel will review and provide input on the Science and Statistical Committee (SSC) recommendation for overfishing limits (OFL) and acceptable biological catch (ABC) limits for fishing years 2020 and 2021. The panel will provide input on the purpose and need for this action and identify a range of alternatives to be included for consideration. The Advisory Panel will give an update and opportunity for input on actions under consideration by the Atlantic States Marine Fisheries Commission (ASMFC). They will also give an update about the status of the Industry Funded Monitoring (IFM) Amendment. The panel will give an opportunity to provide input on the Council's five-year research priorities related to the herring resource and fishery. Other business will be discussed as necessary.

Although non-emergency issues not contained on this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: March 5, 2019.
Tracey L. Thompson,
Acting Deputy Director, Office of Sustainable Fisheries, National Marine Fisheries Service.

[FR Doc. 2019-04221 Filed 3-7-19; 8:45 am]

BILLING CODE 3510-22-P